DEPARTMENT OF COMMERCE

Foreign-Trade Zones Board

[B-72-2017]

Foreign-Trade Zone 30—Salt Lake City, Utah; Application for Reorganization Under Alternative Site Framework

An application has been submitted to the Foreign-Trade Zones (FTZ) Board by the Salt Lake City Corporation, grantee of FTZ 30, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on November 16, 2017.

FTZ 30 was approved by the FTZ Board on May 26, 1977 (Board Order 119, 42 FR 29324, June 8, 1977) and expanded on February 13, 2009 (Board Order 1606, 74 FR 9384-9385, March 4, 2009).

The current zone includes the following site: Site 2 (55 acres)—Rockefeller Development Group Corporation, 1105 South 4800 West Street, Salt Lake City.

The grantee's proposed service area under the ASF would be Davis, Morgan, Salt Lake, Utah and Weber Counties, Utah and the cities of Brigham City, Corinne, Honeyville, Perry, Erda, Grantsville, Lake Point, Mills Junction, Rush Valley, Stansbury Park, Stockton, Terra, Tooele, Vernon, Heber City, Midway, Coalville, Deer Mountain, Echo, Francis, Henefer, Kamas, Kimball Junction, Oakley, Park City, Peoa, Samak, Silver Summit, Snyderville, Wanship, Woodland and Mantua, Utah, as described in the application. If approved, the grantee would be able to serve sites throughout the service area based on companies' needs for FTZ designation. The application indicates that the proposed service area is within and adjacent to the Salt Lake City U.S. Customs and Border Protection port of entry.

The applicant is requesting authority to reorganize its existing zone to include the existing site as a “magnet” site. No subzones/usage-driven sites are being requested at this time. The application would have no impact on FTZ 30's previously authorized subzones.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary at the address below. The closing period for their receipt is January 22, 2018. Rebuttal comments in response to material submitted during the foregoing period may be submitted during the subsequent 15-day period to February 5, 2018.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Christopher Kemp at Christopher.Kemp@trade.gov or (202) 482-0862.

Dated: November 17, 2017.
Andrew McGilvray,
Executive Secretary.

[FR Doc. 2017-25280 Filed 11-21-17; 8:45 am]

BILLING CODE 3510-DS-P